DEPARTMENT OF THE INTERIOR

Fish and Wildlife Service

[FWS-R2-ES-2008-N0316; 20124-1113-0000-F5]

Endangered and Threatened Species Permit Applications

AGENCY: Fish and Wildlife Service, Interior.

ACTION: Notice of receipt of applications.

SUMMARY: The following applicants have applied for scientific research permits to conduct certain activities with endangered species under the Endangered Species Act of 1973, as amended (Act).

DATES: To ensure consideration, written comments must be received on or before January 30, 2009.

ADDRESSES: Written comments should be submitted to the Chief, Endangered Species Division, Ecological Services, P.O. Box 1306, Room 6034, Albuquerque, New Mexico 87103. Documents and other information submitted with these applications are available for review, subject to the requirements of the Privacy Act and Freedom of Information Act. Documents will be available for public inspection, by appointment only, during normal business hours at the U.S. Fish and Wildlife Service, 500 Gold Ave., SW., Room 6034, Albuquerque, New Mexico. Please refer to the respective permit number for each application when submitting comments.

FOR FURTHER INFORMATION CONTACT: Susan Jacobsen, Chief, Endangered Species Division, P.O. Box 1306, Room 4102, Albuquerque, New Mexico 87103, (505) 248-6920.

SUPPLEMENTARY INFORMATION:

Public Availability of Comments

Before including your address, phone number, e-mail address, or other personal identifying information in your comment, you should be aware that your entire comment—including your personal identifying information—may be made publicly available at any time. While you can ask us in your comment to withhold your personal identifying information from public review, we cannot guarantee that we will be able to do so.

Permit TE-819477

Applicant: Parametrix, Albuquerque, New Mexico.

Applicant requests an amendment to a current permit for research and recovery purposes to conduct presence/absence surveys of the following species: Rio Grande silvery minnow (Hybognathus amarus), lesser long-nosed bat (Leptonycteris yerbabuenae), Mexican long-nosed bat (Leptonycteris nivalis), and Pima pineapple cactus (Coryphantha robustispina) within New Mexico and Arizona.

Permit TE-195991

Applicant: Bonnie Doggett, Austin, Texas.

Applicant requests a new permit for research and recovery purposes to conduct presence/absence surveys of golden-cheeked warbler (Dendroica chrysoparia) within Texas.

Permit TE-198059

Applicant: Christopher Taylor, Plano, Texas.

Applicant requests a new permit for research and recovery purposes to conduct presence/absence surveys of the following species: Northern aplomado falcon (Falco femeralis), black-capped vireo (Vireo atricapilla), and golden-cheeked warbler (Dendroica chrysoparia) within Arizona, Texas, and New Mexico.

Permit TE-198057

Applicant: Blackbird Environmental, LLC, Norman, Oklahoma.

Applicant requests a new permit for research and recovery purposes to conduct presence/absence surveys of American burying beetle (Nicrophorus americanus) within Texas, Oklahoma, and Arkansas.

Permit TE-195191

Applicant: Baer Engineering and Environmental Consultants, Inc., Austin, Texas.

Applicant requests a new permit for research and recovery purposes to conduct presence/absence surveys of black-capped vireo (Vireo atricapilla) and golden-cheeked warbler (Dendroica chrysoparia) within Texas.

Authority: 16 U.S.C. 1531 et seq.

Dated: December 4, 2008.
Thomas L. Nauer,
Regional Director, Southwest Region, Fish and Wildlife Service.

[FR Doc. E8-31119 Filed 12-30-08; 8:45 am]

BILLING CODE 4310-55-P